DEPARTMENT OF TRANSPORTATION

Federal Aviation Administration

14 CFR Part 39

[Docket No. FAA-2017-0769; Product Identifier 2017-NM-054-AD; Amendment 39-19249; AD 2018-07-18]

RIN 2120-AA64

Airworthiness Directives; The Boeing Company Airplanes

AGENCY: Federal Aviation Administration (FAA), DOT.

ACTION: Final rule.

SUMMARY: We are superseding Airworthiness Directive (AD) 2015-19-12, which applied to certain The Boeing Company Model 767 airplanes. AD 2015-19-12 required a general visual inspection of certain lap splices for missing fasteners, and all applicable related investigative and corrective actions. This AD retains the actions required by AD 2015-19-12 and revises the applicability by adding airplanes. This AD was prompted by reports indicating that certain fasteners were not installed in a certain stringer lap splice on certain airplanes. We are issuing this AD to address the unsafe condition on these products.

DATES: This AD is effective May 21, 2018.

The Director of the Federal Register approved the incorporation by reference of a certain publication listed in this AD as of May 21, 2018.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. It is also available on the internet at http://www.regulations.gov by searching for and locating Docket No. FAA-2017-0769.

Examining the AD Docket

You may examine the AD docket on the internet at http://www.regulations.gov by searching for and locating Docket No. FAA-2017-0769; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE, Washington, DC 20590.

FOR FURTHER INFORMATION CONTACT: Wayne Lockett, Aerospace Engineer, Airframe Section, FAA, Seattle ACO Branch, 2200 South 216th St., Des Moines, WA 98198; phone and fax: 206-231-3524; email: wayne.lockett@faa.gov.

SUPPLEMENTARY INFORMATION:

Discussion

We issued a notice of proposed rulemaking (NPRM) to amend 14 CFR part 39 to supersede AD 2015-19-12, Amendment 39-18274 (80 FR 58346, September 29, 2015) (“AD 2015-19-12”). AD 2015-19-12 applied to certain the Boeing company Model 767 airplanes. The NPRM published in the Federal Register on August 15, 2017 (82 FR 38634). The NPRM was prompted by reports indicating that certain fasteners were not installed in the stringer 37 (S-37L and S-37R) lap splice between body stations 428 and 431 on certain airplanes. The NPRM proposed to continue to require the actions required by AD 2015-19-12 and revise the applicability by adding airplanes. We are issuing this AD to detect and correct missing fasteners, which could result in cracks in the fuselage skin that could adversely affect the structural integrity of the airplane.

Comments

We gave the public the opportunity to participate in developing this AD. The following presents the comments received on the NPRM and the FAA's response to each comment.

Support for the NPRM

Boeing and FedEx Express concurred with the contents of the NPRM.

Request To Clarify Actions in the Service Information

United Airlines asked if Boeing was going to revise the Model 767 airworthiness limitation items to include exceptions for airplanes that have been repaired using the Accomplishment Instructions of Boeing Alert Service Bulletin 767-53A0251, Revision 1, dated March 7, 2017 (“SB 767-53A0251”). The commenter observed that note 1 to table 2 in paragraph 1.E., “Compliance,” of SB 767-53A0251, indicates that lap splice fastener installation and repairs will affect Structural Significant Items (SSIs) 53-10-I07C and 53-10-I07D, as listed in Section 9, Airworthiness Limitations—Structural Inspections, of the Model 767 maintenance planning document. The commenter stated that their understanding is that if a repair is accomplished it could potentially interfere with an operator's ability to do the inspections specified in the SSIs.

We do not agree that it is necessary to include exceptions in the Model 767 maintenance planning document for airplanes that have been repaired using the Accomplishment Instructions of SB 767-53A0251. SB 767-53A0251 requires repairs be accomplished in accordance with the structural repair manual (SRM). The SRM repairs for lap splices provide alternative inspection instructions to the SSI inspections in the area of the repair, such that exceptions to the SSI inspections in the above mentioned Airworthiness Limitations section is not necessary. Additionally, the SRM denotes that the SRM alternative inspections provided in the SRM have been approved as an AMOC to the SSI inspections required to be incorporated into an operator's maintenance or inspection program as required by AD 2014-14-04. We have not changed this AD in regard to this issue.

Request To Identify Certain Actions in the Service Information as “RC” Exempt

United Airlines requested that certain actions in the Accomplishment Instructions of Boeing Alert Service Bulletin 767-53A0251, Revision 1, dated March 7, 2017, be identified as “RC” exempt. The commenter noted that action 3.B.1.b, “Get internal access. Refer to PART 1—ACCESS as an accepted procedure,” and action 3.B.1.d, “Install equipment that was removed for internal access. Refer to PART 2—RESTORATION as an accepted procedure” are identified as “RC” items in the service information. The commenter stated that operators should be allowed to use alternate access and restoration procedures, therefore these steps should be denoted as “RC” exempt, or removed from the “RC” portion of the Accomplishment Instructions in Boeing Alert Service Bulletin 767-53A0251, Revision 1, dated March 7, 2017.

We disagree with the commenter's request because the service information already provides operators with the opportunity to use an accepted alternative procedure if the work instructions use the words “refer to” when identifying procedures in other Boeing documents. Specifically, note 8 in section 3.A., “General Information” of Boeing Alert Service Bulletin 767-53A0251, Revision 1, dated March 7, 2017, states “These work instructions refer to procedures included in other Boeing documents. When the words `refer to' are used and the operator has an accepted alternative procedure, the accepted alternative procedure can be used.” More explicitly, accepted alternative procedures may be used for the RC actions in sections 3.B.1.b and 3.B.1.d of Boeing Alert Service Bulletin 767-53A0251, Revision 1, dated March 7, 2017. We have not changed this AD in regard to this issue.

Effect of Winglets on Accomplishment of the Proposed Actions

Aviation Partners Boeing stated that accomplishing Supplemental Type Certificate (STC) ST01920SE does not affect the ability to accomplish the actions specified in the NPRM.

We concur with the commenter. We have redesignated paragraph (c) of the proposed AD as (c)(1) and added paragraph (c)(2) to this AD to state that installation of STC ST01920SE does not affect the ability to accomplish the actions required by this AD. Therefore, for airplanes on which STC ST01920SE is installed, a “change in product” AMOC approval request is not necessary to comply with the requirements of 14 CFR 39.17.

Conclusion

We reviewed the relevant data, considered the comments received, and determined that air safety and the public interest require adopting this AD with the change described previously, and minor editorial changes. We have determined that these minor changes:

• Are consistent with the intent that was proposed in the NPRM for correcting the unsafe condition; and

• Do not add any additional burden upon the public than was already proposed in the NPRM.

We have also determined that these changes will not increase the economic burden on any operator or increase the scope of this AD.

Related Service Information Under 1 CFR Part 51

We reviewed Boeing Alert Service Bulletin 767-53A0251, Revision 1, dated March 7, 2017. The service information describes procedures for a general visual inspection of certain S-37 lap splices for missing fasteners, and applicable on-condition actions. This service information is reasonably available because the interested parties have access to it through their normal course of business or by the means identified in the ADDRESSES section.

Costs of Compliance

We estimate that this AD affects 398 airplanes of U.S. registry. We estimate the following costs to comply with this AD:

Estimated Costs for Required Actions
Action | Labor cost | Parts cost | Cost per product | Cost on U.S. operators
Inspection | 1 work-hour × $85 per hour = $85 | $0 | $85 | $33,830

We estimate the following costs to do any necessary inspections/installations that would be required based on the results of the inspection. We have no way of determining the number of aircraft that might need these inspections/installations:

Estimated Costs for On-Condition Actions
Action * | Labor cost | Parts cost | Cost per product
Detailed and high frequency eddy current inspections and fastener installation | 13 work-hours × $85 per hour = $1,105 | (**) | $1,105
* We have received no definitive data that will enable us to provide cost estimates for the repairs specified in this AD.
** All required parts are supplied by the operator. This cost is minimal, and we have no way to determine what an operator would pay for these parts.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-19-12, Amendment 39-18274 (80 FR 58346, September 29, 2015), and adding the following new AD:

2018-07-18 The Boeing Company: Amendment 39-19249; Docket No. FAA-2017-0769; Product Identifier 2017-NM-054-AD.

(a) Effective Date

This AD is effective May 21, 2018.

(b) Affected ADs

This AD replaces AD 2015-19-12, Amendment 39-18274 (80 FR 58346, September 29, 2015) (“AD 2015-19-12”).

(c) Applicability

(1) This AD applies to The Boeing Company Model 767-200, -300, -300F, and -400ER series airplanes, certificated in any category, as identified in Boeing Alert Service Bulletin 767-53A0251, Revision 1, dated March 7, 2017.

(2) Installation of Supplemental Type Certificate (STC) ST01920SE (rgl.faa.gov/Regulatory_and_Guidance_Library/rgstc.nsf/0/59027F43B9A7486E86257B1D006591EE?OpenDocument&Highlight=st01920se) does not affect the ability to accomplish the actions required by this AD. Therefore, for airplanes on which STC ST01920SE is installed, a “change in product” alternative method of compliance (AMOC) approval request is not necessary to comply with the requirements of 14 CFR 39.17.

(d) Subject

Air Transport Association (ATA) of America Code 53, Fuselage.

(e) Unsafe Condition

This AD was prompted by reports indicating that certain fasteners were not installed in the stringer 37 (S-37L and S-37R) lap splice between body stations 428 and 431 on certain airplanes. We are issuing this AD to detect and correct missing fasteners, which could result in cracks in the fuselage skin that could adversely affect the structural integrity of the airplane.

(f) Compliance

Comply with this AD within the compliance times specified, unless already done.

(g) Required Actions

Except as required by paragraph (h) of this AD: At the applicable times specified in paragraph 1.E., “Compliance,” of Boeing Alert Service Bulletin 767-53A0251, Revision 1, dated March 7, 2017, do all applicable actions identified as “RC” (required for compliance) in, and in accordance with, the Accomplishment Instructions of Boeing Alert Service Bulletin 767-53A0251, Revision 1, dated March 7, 2017.

(h) Exceptions to Service Information Specifications

(1) Where Alert Service Bulletin 767-53A0251, Revision 1, dated March 7, 2017, specifies contacting Boeing, and specifies that action as RC: This AD requires repair using a method approved in accordance with the procedures specified in paragraph (j) of this AD.

(2) For purposes of determining compliance with the requirements of this AD: Where Boeing Alert Service Bulletin 767-53A0251, Revision 1, dated March 7, 2017, uses the phrase “the Revision 1 date of this service bulletin,” this AD requires using “the effective date of this AD.”

(i) Credit for Previous Actions

For Group 1 airplanes as defined in Boeing Alert Service Bulletin 767-53A0251, Revision 1, dated March 7, 2017: This paragraph provides credit for the actions specified in paragraph (g) of this AD, if those actions were performed before the effective date of this AD using Boeing Alert Service Bulletin 767-53A0251, dated August 7, 2013.

(j) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(4) AMOCs approved previously for AD 2015-19-12 are approved as AMOCs for the corresponding provisions of paragraph (g) of this AD.

(5) Except as required by paragraph (h)(1) of this AD: For service information that contains steps that are labeled as Required for Compliance (RC), the provisions of paragraphs (j)(5)(i) and (j)(5)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Wayne Lockett, Aerospace Engineer, Airframe Section, FAA, Seattle ACO Branch, 2200 South 216th St., Des Moines, WA 98198; phone and fax: 206-231-3524; email: wayne.lockett@faa.gov.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 767-53A0251, Revision 1, dated March 7, 2017.

(ii) Reserved.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Transport Standards Branch, 2200 South 216th St., Des Moines, WA 98198. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on March 30, 2018.
Chris Spangenberg,
Acting Director, System Oversight Division, Aircraft Certification Service.

[FR Doc. 2018-07630 Filed 4-13-18; 8:45 am]

BILLING CODE 4910-13-P